FEDERAL COMMUNICATIONS COMMISSION

Information Collection Being Reviewed by the Federal Communications Commission for Extension Under Delegated Authority

AGENCY: Federal Communications Commission.

ACTION: Notice and request for comments.

SUMMARY: As part of its continuing effort to reduce paperwork burdens and as required by the Paperwork Reduction Act of 1995, Public Law 104-13, the Federal Communications Commission invites the general public and other Federal agencies to take this opportunity to comment on the following information collection(s). Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information burden for small business concerns with fewer than 25 employees.

The FCC may not conduct or sponsor a collection of information unless it displays a currently valid control number. No person shall be subject to any penalty for failing to comply with a collection of information subject to the Paperwork Reduction Act (PRA) that does not display a valid control number.

DATES: Persons wishing to comment on this information collection should submit comments by October 4, 2011. If you anticipate that you will be submitting comments, but find it difficult to do so within the period of time allowed by this notice, you should advise the contact listed below as soon as possible.

ADDRESSES: Submit your PRA comments to Nicolas A. Fraser, Office of Management and Budget (OMB), via fax at 202-395-5167, or via the Internet at Nicholas_A._Fraser@omb.eop.gov, and to Judith-B.Herman@fcc.gov, Federal Communications Commission (FCC). To submit your comments by e-mail send them to: PRA@fcc.gov.

FOR FURTHER INFORMATION CONTACT: For additional information about the information collection(s), contact Judith B. Herman at 202-418-0214.

SUPPLEMENTARY INFORMATION:

OMB Control No.: 3060-0695.

Title: Section 87.219, Automatic Operations.

Form No.: N/A.

Type of Review: Extension of a currently approved collection.

Respondents: Business or other for-profit.

Number of Respondents: 60 respondents; 60 responses.

Estimated Time per Response: .7 hours.

Frequency of Response: On occasion reporting requirement, recordkeeping requirement and third party disclosure requirement.

Obligation to Respond: Required to obtain or retain benefits. Statutory authority for this collection of information is contained in 47 U.S.C. sections 154, 303, and 307(e).

Total Annual Burden: 42 hours.

Annual Cost Burden: $6,468.

Privacy Act Impact Assessment: N/A.

Nature and Extent of Confidentiality: There is no need for confidentiality.

Needs and Uses: The Commission is seeking Office of Management and Budget (OMB) approval for an extension of this information collection (no change in the reporting, recordkeeping and/or third party disclosure requirements). The Commission will submit this information collection after this 60 day comment period.

Section 87.219 requires that if airports have control towers or Federal Aviation Administration (FAA) flight service stations, and more than one licensee wants to have an automated aeronautical advisor station (Unicom), they must write an agreement outlining who will be responsible for the Unicom's operation; all licensees must sign the agreement and keep a copy of the agreement with each licensee's station authorization. If the control is to be shared among several operators, how that control will be divided or scheduled must be agreed upon by the licensees.

The information will be used by compliance personnel for enforcement purposes and by licensees to clarify responsibility in operating Unicom.

OMB Control No.: 3060-0740.

Title: Section 95.1015, Disclosure Policies.

Form No.: N/A.

Type of Review: Extension of a currently approved collection.

Respondents: Business or other for-profit.

Number of Respondents: 26 respondents; 26 responses.

Estimated Time per Response: 1 hour.

Frequency of Response: On occasion reporting requirement, recordkeeping requirement and third party disclosure requirement.

Obligation to Respond: Required to obtain or retain benefits. Statutory authority for this collection of information is contained in 47 U.S.C. sections 154, 303, and 307(e).

Total Annual Burden: 26 hours.

Annual Cost Burden: $1,300.

Privacy Act Impact Assessment: N/A.

Nature and Extent of Confidentiality: There is no need for confidentiality.

Needs and Uses: The Commission is seeking Office of Management and Budget (OMB) approval for an extension of this information collection (no change in the reporting, recordkeeping and/or third party disclosure requirements). The Commission will submit this information collection after this 60 day comment period.

Prior to operating a Low Power Radio Service (LPRS) transmitter for Automated Marine Telecommunications System (AMTS) purposes, an AMTS licensee must notify, in writing, each television station that may be affected by such operations, as defined in 47 CFR 80.215(h). The notification provided with the station's license application is sufficient to satisfy this requirement if no new television stations would be affected. This information is used by Commission staff and affected stations television stations to be aware of the location of potential harmful interference from AMTS operations.

The reporting requirement in section 90.1015 necessary to ensure that television stations that may be affected by harmful interference from AMTS operations are notified.

OMB Control No.: 3060-0882.

Title: Section 95.833, Construction Requirements.

Form No.: N/A.

Type of Review: Extension of a currently approved collection.

Respondents: Business or other for-profit.

Number of Respondents: 10 respondents; 10 responses.

Estimated Time per Response: 1 hour.

Frequency of Response: Every decade (ten years) reporting requirement.

Obligation to Respond: Required to obtain or retain benefits. Statutory authority for this collection of information is contained in 47 U.S.C. sections 154 and 303.

Total Annual Burden: 10 hours.

Annual Cost Burden: N/A.

Privacy Act Impact Assessment: N/A.

Nature and Extent of Confidentiality: There is no need for confidentiality.

Needs and Uses: The Commission is seeking Office of Management and Budget (OMB) approval for an extension of this information collection (no change in the reporting, recordkeeping and/or third party disclosure requirements). The Commission will submit this information collection after this 60 day comment period.

The reporting requirement contained in 47 CFR 95.833 is necessary for 218-219 MHz service system licensees to file a report after ten years of license grant to demonstrate that they provide substantial service to its service areas.

The information is used by the Commission staff to access compliance with 218-219 MHz service construction requirements, and to provide adequate spectrum for the service. This will facilitate spectrum efficiency and competition by the 218-219 MHz service licensees in the wireless marketplace.

Without this information, the Commission would not be able to carry out its statutory responsibilities.

Federal Communications Commission.
Marlene H. Dortch,
Secretary, Office of the Secretary, Office of Managing Director.

[FR Doc. 2011-19868 Filed 8-4-11; 8:45 am]

BILLING CODE 6712-01-P